DEPARTMENT OF TRANSPORTATION

Federal Aviation Administration

14 CFR Part 23

Airworthiness Standards: Normal, Utility, Acrobatic, and Commuter Category Airplanes

CFR Correction

In Title 14 of the Code of Federal Regulations, Parts 1 to 59, revised as of January 1, 2007, on page 227, in § 23.561, remove the five paragraphs beginning with the second paragraph (d)(1)(i) through paragraph (d)(1)(v).

[FR Doc. 07-55522 Filed 12-21-07; 8:45 am]

BILLING CODE 1505-01-D